DEPARTMENT OF COMMERCE

National Oceanic and Atmospheric Administration

[RTID 0648-XB101]

North Pacific Albacore United States Stakeholder Meeting; Meeting Announcement

AGENCY: National Marine Fisheries Service (NMFS), National Oceanic and Atmospheric Administration (NOAA), Commerce.

ACTION: Notice of public meeting.

SUMMARY: NMFS announces a U.S. stakeholder meeting to discuss North Pacific albacore (NPALB) management. This meeting is intended as a follow-up to a meeting held by the International Scientific Committee on Tuna and Tuna-like Species in the North Pacific Ocean regarding a management strategy evaluation for NPALB. The meeting topics are described under the SUPPLEMENTARY INFORMATION section of this notice.

DATES: The virtual meeting will be held on June 1, 2021, from 12 p.m. to 2 p.m. PDT (or until business is concluded). You must notify NMFS by May 24, 2021, if you plan to attend the meeting (see ADDRESSES).

ADDRESSES: If you plan to attend the meeting, which will be held by webinar, please notify Valerie Post, Pacific Islands Regional Office, NMFS, by email at valerie.post@noaa.com. Instructions for attending the meeting will be emailed to meeting participants before the meeting occurs.

FOR FURTHER INFORMATION CONTACT: Celia Barroso, West Coast Region, at celia.barroso@noaa.gov or 562-432-1850.

SUPPLEMENTARY INFORMATION: The International Scientific Committee on Tuna and Tuna-like Species in the North Pacific Ocean (ISC) recently completed a management strategy evaluation (MSE) on North Pacific albacore (NPALB),¹ and the ISC Albacore Working Group hosted a meeting among U.S. and Canadian stakeholders from March 22-25, 2021, to review the results of the MSE. As a follow-up to the ISC meeting in March 2021, this U.S. stakeholder meeting is an opportunity for U.S. stakeholders to express their priorities and consider future management of NPALB.

¹ http://isc.fra.go.jp/working_groups/albacore.html.

NPALB U.S. Stakeholder Meeting Topics

This meeting will have an agenda that will be distributed to participants in advance of the meeting. The meeting agenda will include, but is not limited to, the following topics:

(1) Results of the ISC NPALB MSE.

(2) Management objectives.

(3) Discussion of potential future harvest strategy for NPALB.

Special Accommodations

Requests for sign language interpretation or other auxiliary aids should be directed to Valerie Post (see ADDRESSES) by May 24, 2021.

Authority: 16 U.S.C. 951 et seq., 16 U.S.C. 1801 et seq., and 16 U.S.C. 6901 et seq.

Dated: May 17, 2021.
Jennifer M. Wallace,
Acting Director, Office of Sustainable Fisheries, National Marine Fisheries Service.

[FR Doc. 2021-10646 Filed 5-19-21; 8:45 am]

BILLING CODE 3510-22-P